DEPARTMENT OF JUSTICE

Antitrust Division

Notice Pursuant To the National Cooperative Research and Production Act of 1993—Medical CBRN Defense Consortium

Notice is hereby given that, on October 20, 2020, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Aardvark Medical, Inc.; Ross, CA; Acer Therapeutics, Inc.; Newton, MA; Aegis BioDefense, Inc.; San Carlos, CA; Albany Molecular Research Inc. (AMRI); Albany, NY; Arcturus Therapeutics; San Diego, CA; ARMSTEL, Inc.; Plano, TX; C2Sense, Inc.; Watertown, MA; Captura Biopharma, Inc.; Little Rock, AR; Concord Medical Technology Corporation; Grand Forks, ND; Efiia Consulting, LLC; Falls Church, VA; Equillium, Inc.; La Jolla, CA; EUSA Pharma (US), LLC; Burlington, MA; EWI; Columbus, OH; GenScript USA, Inc.; Piscataway, NJ; Kleo Pharmaceuticals; New Haven, CT; Lillian Bay Holdings, LLC; Saint Petersburg, FL; Lyndra Therapeutics, Inc.; Watertown, MA; Pathology Assist-Temp, Inc.; Chantilly, VA; PhaseBio Pharmaceuticals, Inc.; Malvern, PA; Quanterix Corporation; Billerica, MA; SomaLogic, Inc.; Boulder, CO; Sorrento Therapeutics, Inc.; Atlanta, GA; Unify R&D; Elkridge, MD and United National Native Council; Payson, AZ have been added as parties to this venture.

Also, Space Information Laboratories; Santa Maria, CA, and Valaria Technical Consultants, LLC; Westminster, MD have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on July 30, 2020. A notice was published in the Federal Register pursuant to Section 6(b) of the Act on August 28, 2020 (85 FR 53401).

Suzanne Morris,
Chief, Premerger and Division Statistics, Antitrust Division.

[FR Doc. 2020-25693 Filed 11-19-20; 8:45 am]

BILLING CODE 4410-11-P